DEPARTMENT OF COMMERCE

National Oceanic and Atmospheric Administration

[I.D. 122806B]

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Recreational Advisory Panel (Panel) in January, 2007 to consider actions affecting New England fisheries in the exclusive economic zone (EEZ). Recommendations from this group will be brought to the full Council for formal consideration and action, if appropriate.

DATES: The meeting will be held on Wednesday, January 24, 2007 at 9 a.m.

ADDRESSES: Meeting address: The meeting will be held at the Sheraton Ferncroft Hotel, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Council has begun development of Amendment 16 to the Northeast Multispecies Fishery Management Plan (FMP). This amendment will adjust measures as necessary to continue the stock rebuilding programs adopted by Amendment 13 to the FMP on May 1, 2004. The amendment may also consider other adjustments to management measures or alternatives to the effort control system currently used to manage the multispecies fishery. On November 6, 2006, the Council published a Notice of Intent (NOI) to prepare a Supplementary Environmental Impact Statement (SEIS) to support this amendment (71 FR 64941) and announced a scoping period that ended on December 29, 2006. The Panel will meet to develop recommendations for management of the recreational fishery and the Panel may consider allocations to the recreational fishery, management measures or other issues. Recommendations of the Panel will be considered by the Council at future meetings.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: December 29, 2006.
Tracey L. Thompson,
Acting Director, Office of Sustainable Fisheries, National Marine Fisheries Service.

[FR Doc. E6-22598 Filed 1-4-07; 8:45 am]

BILLING CODE 3510-22-S